DEPARTMENT OF HEALTH AND HUMAN SERVICES

Centers for Disease Control and Prevention

Board of Scientific Counselors, National Institute for Occupational Safety and Health: Meeting

In accordance with section 10(a)(2) of the Federal Advisory Committee Act (Pub. L. 92-463), the Centers for Disease Control and Prevention (CDC) announces the following committee meeting:

Name: Board of Scientific Counselors, National Institute for Occupational Safety and Health (BSC, NIOSH).

Time and Date: 9 a.m.-2:45 p.m., April 30, 2003.

Place: The Washington Court, 525 New Jersey Avenue, NW., Washington, DC 20001-1527, telephone 202/879-7918, fax 202/879-7918.

Status: Open to the public, limited only by the space available. The meeting room accommodates approximately 50 people.

Purpose: The BSC, NIOSH, is charged with providing advice to the Director, NIOSH, on NIOSH research programs. Specifically, the Board provides guidance on the Institute's research activities related to developing and evaluating hypotheses, systematically documenting findings, and disseminating results.

Matters to be Discussed: Agenda items include a report from the Director of NIOSH; Report on NIOSH International Activities; update on the National Exposure at Work Survey; briefing on Outreach and Information for Small Businesses; update on NIOSH Occupational Asthma Research; closing remarks.

Agenda items are subject to change as priorities dictate.

Contact Person for More Information: Roger Rosa, Ph.D., Executive Secretary, BSC, NIOSH, Centers for Disease Control and Prevention, 200 Independence Avenue, SW., Room 715H,Washington, DC 20201, telephone: 202/205-7856, fax: 202/260-4464, e-mail: rrosa@cdc.gov.

The Director, Management Analysis and Services Office, has been delegated the authority to sign Federal Register notices pertaining to announcements of meetings and other committee management activities, for both the Centers for Disease Control and Prevention and the Agency for Toxic Substances and Disease Registry.

Dated: April 3, 2003.
Alvin Hall,
Director, Management Analysis and Services Office, Centers for Disease Control and Prevention (CDC).

[FR Doc. 03-8752 Filed 4-9-03; 8:45 am]

BILLING CODE 4163-19-P